FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 14, 2018.

A. Federal Reserve Bank of San Francisco (Gerald C. Tsai, Director, Applications and Enforcement) 101 Market Street, San Francisco, California 94105-1579:

1. Denis Daly Trust, UAD 12/24/12, Denis Daly, trustee, River Forest, Illinois; Daly 2017 Gift Trust, Dorothy Daly, trustee, Oak Brook, Illinois; and Eleanor Daly, an individual, River Forest, Illinois individually and joining a group in concert; to retain and acquire additional voting shares of Trans Pacific Bancorp, and thereby acquire shares of Beacon Business Bank, National Association, both of San Francisco, California.

Board of Governors of the Federal Reserve System, May 24, 2018.
Ann Misback,
Secretary of the Board.

[FR Doc. 2018-11590 Filed 5-30-18; 8:45 am]

BILLING CODE P